DEPARTMENT OF COMMERCE

International Trade Administration

[A-570-504]

Petroleum Wax Candles from the People's Republic of China: Rescission, in Part, of Antidumping Duty Administrative Review

Agency: Import Administration, International Trade Administration, U.S. Department of Commerce.

SUMMARY: The Department of Commerce (the Department) is rescinding its administrative review of Dongguan Fay Candle Co., Ltd. (Fay) under the antidumping duty order on petroleum wax candles from the People's Republic of China (PRC) for the period August 1, 2002 through July 31, 2003. This rescission, in part, is based on the withdrawal of requests for review by the National Candle Association (petitioner) and Fay.

EFFECTIVE DATE: March 16, 2004.

FOR FURTHER INFORMATION CONTACT: Mark Hoadley or Sally Gannon at (202) 482-3148 and (202) 482-0162, respectively, Import Administration, International Trade Administration, U.S. Department of Commerce, 14th Street and Constitution Avenue, N.W., Washington, D.C. 20230.

SUPPLEMENTARY INFORMATION:

Background

The Department published in the Federal Register an antidumping duty order on petroleum wax candles from the PRC on August 28, 1986 (51 FR 30686). Pursuant to its Notice of Opportunity to Request an Administrative Review, 68 FR 45218 (August 1, 2003), and in accordance with section 751(a)(1)(B) of the Act and section 351.213(b) of the Department's regulations, the Department received a timely request by petitioner to conduct an administrative review of the antidumping duty order on petroleum wax candles from the PRC for 23 companies, including Fay. Fay, along with one other company, Qingdao Kingking Applied Chemistry Co., Ltd. (Qingdao Kingking), named in petitioner's request as well, also requested a review.

On September 30, 2003, the Department published its Notice of Initiation of Antidumping and Countervailing Duty Administrative Reviews, Requests for Revocation in Part and Deferral of Administrative Review, 68 FR 56262 (September 30, 2003) (Initiation Notice), initiating on all 23 candle companies for which a review was requested. On December 24, 2003, the Department received a timely withdrawal from petitioner of its request for a review of all 23 companies for which it had requested a review. Consequently, on January 27, 2004, the Department rescinded the review for 21 of the 23 companies. Petroleum Wax Candles from the People's Republic of China: Rescission, in Part, of Antidumping Duty Administrative Review, 69 FR 6258 (February 10, 2004). Because Fay and Qingdao Kingking had requested reviews themselves, we did not rescind the review of these two companies. However, in a letter dated January 26, 2004, Fay withdrew its request for a review.

Rescission, in Part, of Administrative Review

Pursuant to section 351.213(d)(1) of the Department's regulations, the Department may rescind an administrative review, “if a party that requested the review withdraws the request within 90 days of the date of publication of notice of initiation of the requested review.” Because petitioner and Fay have now both withdrawn their requests for review, and because they were the only parties to request a review for Fay, we are rescinding this administrative review, in part, for the period August 1, 2002 to July 31, 2003, for Fay. We will continue the administrative review with respect to Qingdao Kingking.

Petitioner's request was received within the 90-day period for withdrawal of review requests specified in section 351.213(d)(1). Fay's request was received after the end of this period. However, the Department is authorized to extend this deadline if it decides that it is reasonable to do so. See section 351.213(d)(1). Although Fay submitted its withdrawal request more than 90 days after the initiation publication date, the Department has decided that it is reasonable to extend the deadline and accept the request. Petitioner and Fay were the only parties to request this review and the review has not progressed to a point where it would be unreasonable to allow parties to withdraw their requests for review. See Certain In-Shell Raw Pistachios from Iran: Rescission of Antidumping Duty Administrative Review, 68 FR 16764 (April 7, 2003). Additionally, we conclude that this withdrawal does not constitute an “abuse” of our procedures. See Antidumping Duties; Countervailing Duties; Final Rule, 62 FR 27296, 27317 (May 19, 1997).

The Department will issue appropriate assessment instructions directly to U.S. Customs and Border Protection (Customs) within 15 days of the publication of this notice. The Department will direct Customs to assess antidumping duties for Fay at the cash deposit rate in effect on the date of entry for entries during the period August 1, 2002 to July 31, 2003.

Notification to Parties

This notice serves as a reminder to importers of their responsibility under section 351.402(f) of the Department's regulations to file a certificate regarding the reimbursement of antidumping duties prior to liquidation of the relevant entries during this period of time. Failure to comply with this requirement could result in the Secretary's presumption that reimbursement of antidumping duties occurred and subsequent assessment of double antidumping duties.

This notice also serves as a reminder to parties subject to administrative protective order (APO) of their responsibility concerning the disposition of proprietary information disclosed under APO in accordance with section 351.305(a) of the Department's regulations. Timely written notification of the return or destruction of APO materials or conversion to judicial protective order is hereby requested. Failure to comply with the regulations and terms of an APO is a sanctionable violation.

This notice is issued and published in accordance with section 351.213(d)(4) of the Department's regulations and sections 751(a)(1) and 777(i)(1) of the Tariff Act of 1930, as amended.

Dated: March 3, 2004.
James J. Jochum,
Assistant Secretary for Import Administration.

[FR Doc. 04-5917 Filed 3-15-04; 8:45 am]

BILLING CODE 3510-DS-S